SECURITIES AND EXCHANGE COMMISSION

Sunshine Act Meeting

Federal Register Citation of Previous Announcement: [71 FR 40174, July 14, 2006].

Status: Closed meeting.

Place: 100 F Street, NE., Washington, DC.

Date and time of previously announced meeting: Tuesday, July 18, 2006 at 10 a.m.

Change in the meeting: Time change.

The closed meeting scheduled for Tuesday, July 18, 2006 at 10 a.m. has been changed to Tuesday, July 18, 2006 at 11 a.m.

At times, changes in Commission priorities require alterations in the scheduling of meeting items. For further information and to ascertain what, if any, matters have been added, deleted or postponed, please contact the Office of the Secretary at (202) 551-5400.

Dated: July 14, 2006.
J. Lynn Taylor,
Assistant Secretary.

[FR Doc. 06-6303 Filed 7-14-06; 10:52 am]

BILLING CODE 8010-01-P